DEPARTMENT OF LABOR

Office of the Workers' Compensation Programs

[OMB Control No. 1240-0010]

Proposed Extension of an Existing Collection; Request To Be Selected as Payee (CM-910)

AGENCY: Division of Coal Mine Workers' Compensation, Office of Workers' Compensation Programs, Department of Labor.

ACTION: Request for public comments.

SUMMARY: The Department of Labor (DOL), as part of its continuing effort to reduce paperwork and respondent purden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. OWCP/DCMWC is soliciting comments on the information collection request (ICR) titled, “Request to be Selected as Payee (CM-910)”.

DATES: Consideration will be given to all written comments received by June 10, 2024.

ADDRESSES: You may submit comment as follows. Please note that late, untimely filed comments will not be considered.

Written/Paper Submission: Submit written/paper submissions the following way:

• Mail/Hand Delivery: Mail or visit DOL-OWCP/DCMWC, Office of Workers' Compensation Program, Division of Coal Mine Workers' Compensation, U.S. Department of Labor, 200 Constitution Ave. NW, Room C3520, Washington, DC 20210.

OWCP/DCMWC will post your comment as well as any attachments, except for information submitted and marked as confidential, in the docket at https://www.regulations.gov.

FOR FURTHER INFORMATION CONTACT: Anjanette Suggs by telephone at 202-354-9660 or by email at suggs.anjanette@dol.gov.

SUPPLEMENTARY INFORMATION:

I. Background

The Office of Workers' Compensation Program administers the Coal Mine Workers' Compensation Act. The Act provides compensation to coal miners who are totally disabled by pneumoconiosis arising out of coal mine employment, and to survivors of coal miners whose deaths are attributable to the disease. The Act also provides eligible miners with medical coverage for the treatment of lung diseases related to pneumoconiosis. This program helps ensure the requested data can be provided in the desired format, reporting burden (time and financial resources) is minimized, collection instruments are clearly understood, and the impact of collection requirements can be properly assessed.

If a beneficiary is incapable of handling his/her affairs, the person or institution responsible for their care is required to apply to receive the benefit payments on the beneficiary's behalf. The CM 910 is the form completed by representative payee applicants. The payee applicant completes the form and submits it for evaluation to the district office that has jurisdiction over the beneficiary's claim file. The Black Lung Benefits Act, 30 U.S.C. 901 and its implementing regulations, 20 CFR 725.513(a), 725.533(e), authorizes this information collection. See 30 U.S.C. 936(a).

II. Desired Focus of Comments

The OWCP/DCMWC is soliciting comments concerning the proposed information collection request (ICR) titled, “Request to be Selected as Payee (CM-910)”. OWCP/DCMWC is particularly interested in comments that:

• Evaluate whether the proposed collection of information is necessary for the proper performance of the functions of the agency, including whether the information will have practical utility.

• Evaluate the accuracy of the OWCP/DCMWC's estimate of the burden of the proposed collection of information, including the validity of the methodology and assumptions used in the estimate.

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and at DOL-OWCP/DCMWC located at 200 Constitution Avenue NW, Room XXXX, Washington, DC 20210. Question about the information collection requirements may be directed to the person listed in the FOR FURTHER INFORMATION CONTACT section of this notice.

III. Current Actions

This information collection request concerns the “Request to be Selected as Payee (CM-910)”. OWCP/DCMWC has updated the date with respect to number of respondents, responses, burden hours, and burden costs supporting this information collection request from the previous information collection request.

Type of Review: Extension.

Agency: DOL—Office of Workers' Compensation Programs, Division of Coal Mine Workers' Compensation, OWCP/DCMWC.

OMB Control Number: 1240-0010.

Affected Public: Individuals or households; Business or other for profit; Not-for-profit institutions.

Number of Respondents: 350.

Frequency: On Occasion.

Number of Responses: 350.

Estimated Total Annual Burden Hours: 88 hours.

Annual Respondent of Recordkeeper Cost: 230.00.

OWCP Form: Form CM-910, Request to be Selected as Payee.

Comments submitted in response to this notice will be summarized in the request for Office of Management and Budget approval of the proposed information collection request; they will become a matter of public record and will be available at https://reginfo.gov.

Authority: 44 U.S.C. 3506(C)(2)(A).

Anjanette Suggs,
Agency Clearance Officer.

[FR Doc. 2024-07432 Filed 4-8-24; 8:45 am]

BILLING CODE 4510-CK-P